DEPARTMENT OF ENERGY

Federal Energy Regulatory Commission

Combined Notice of Filings #1

Take notice that the Commission received the following exempt wholesale generator filings:

Docket Numbers: EG16-118-000.

Applicants: Western Antelope Blue Sky Ranch B LLC.

Description: Notice of Self-Certification of Exempt Wholesale Generator Status of Western Antelope Blue Sky Ranch B.

Filed Date: 6/21/16.

Accession Number: 20160621-5144.

Comments Due: 5 p.m. ET 7/12/16.

Docket Numbers: EG16-119-000.

Applicants: Antelope DSR 2, LLC.

Description: Notice of Self-Certification of Exempt Wholesale Generator Status of Antelope DSR 2, LLC.

Filed Date: 6/22/16.

Accession Number: 20160622-5185.

Comments Due: 5 p.m. ET 7/13/16.

Docket Numbers: EG16-120-000.

Applicants: Western Antelope Dry Ranch LLC.

Description: Notice of Self-Certification of Exempt Wholesale Generator Status of Western Antelope Dry Ranch LLC.

Filed Date: 6/22/16.

Accession Number: 20160622-5186.

Comments Due: 5 p.m. ET 7/13/16.

Take notice that the Commission received the following electric rate filings:

Docket Numbers: ER16-425-005.

Applicants: New York Independent System Operator, Inc.

Description: Compliance filing: NYISO filing re: establish 6/22/16 as effective date for CSP to be effective 6/22/2016.

Filed Date: 6/22/16.

Accession Number: 20160622-5173.

Comments Due: 5 p.m. ET 6/28/16.

Docket Numbers: ER16-890-002.

Applicants: Summer Solar LLC.

Description: Compliance filing: Summer Solar LLC MBR Tariff to be effective 3/4/2016.

Filed Date: 6/22/16.

Accession Number: 20160622-5096.

Comments Due: 5 p.m. ET 7/13/16.

Docket Numbers: ER16-1969-001.

Applicants: Midcontinent Independent System Operator, Inc.

Description: Compliance filing: 2016-06-20_Compliance filing to address NIPSCO Complaint Order to be effective 8/22/2016.

Filed Date: 6/20/16.

Accession Number: 20160620-5137.

Comments Due: 5 p.m. ET 7/11/16.

Docket Numbers: ER16-1987-000.

Applicants: PJM Interconnection, L.L.C.

Description: § 205(d) Rate Filing: Service Agreement No. 4479, Queue Position No. AB1-055 to be effective 5/23/2016.

Filed Date: 6/22/16.

Accession Number: 20160622-5035.

Comments Due: 5 p.m. ET 7/13/16.

Docket Numbers: ER16-1988-000.

Applicants: AEP Texas Central Company.

Description: § 205(d) Rate Filing: TCC-La Paloma Energy Center IA Fourth Amend & Restated to be effective 6/6/2016.

Filed Date: 6/22/16.

Accession Number: 20160622-5044.

Comments Due: 5 p.m. ET 7/13/16.

Docket Numbers: ER16-1989-000.

Applicants: Southwest Power Pool, Inc.

Description: § 205(d) Rate Filing: 3200 WAPA & City of Lakota, ND Interconnection Agreement to be effective 5/31/2016.

Filed Date: 6/22/16.

Accession Number: 20160622-5110.

Comments Due: 5 p.m. ET 7/13/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 22, 2016.
Nathaniel J. Davis, Sr.,
Deputy Secretary.

[FR Doc. 2016-15597 Filed 6-30-16; 8:45 am]

BILLING CODE 6717-01-P